DEPARTMENT OF TRANSPORTATION

Federal Aviation Administration

Notice of Intent To Prepare an Environmental Assessment and Conduct Scoping for Proposed Air Traffic Procedural Changes Associated with the Omaha Airspace Redesign

AGENCY: Federal Aviation Administration, DOT.

ACTION: Notice of Intent to Prepare an Environmental Assessment (EA).

SUMMARY: The Federal Aviation Administration (FAA), Central Region, is issuing this notice to advise the public, pursuant to the National Environmental Policy Act of 1969, as amended (NEPA), 42 U.S.C. 4332(2)(C) that the FAA intends to prepare an EA for the proposed Omaha Airspace Redesign (OAR). While not required for an EA, the FAA is issuing this Notice of Intent to facilitate public involvement. This EA will assess the potential environmental impacts resulting from proposed modifications to air traffic routings in the metropolitan Omaha and surrounding areas. Airports in this area include Omaha, Eppley Airfield (OMA), Offutt Air Force Base, Lincoln Airport (LNK), as well as smaller, primarily general aviation use airports. All reasonable alternatives are being considered including a no action alternative.

FOR FURTHER INFORMATION CONTACT: Donna O'Neill, Airspace Branch, ACE-520, Air Traffic Division, Federal Aviation Administration, 901 Locust, Kansas City, MO 64106; telephone: (816) 329-2560.

SUPPLEMENTARY INFORMATION: The FAA is exploring new routing structures that will improve the safety and efficiency of air traffic control (ATC) operations in the Omaha Terminal Radar Approach Control (TRACON) area. Preliminary operational concepts involve changes internal to the Omaha TRACON airspace structure, as well as changes to Omaha and Lincoln arrival and departure routes that would align with Minneapolis Air Route Traffic Control Center (ARTCC) en route airspace routes. Establishment of standardized, predictable routing reduces pilot and controller workload, thereby increasing overall safety. This will be accomplished by providing predictable and efficient procedural separation for arriving and departing aircraft, reducing the need for controller intervention. In addition, this concept will also allow pilots to take advantage of improved aircraft navigational technologies.

Potential alternatives will encompass new routing proposals that would accommodate aircraft without Area Navigation (RNAV) capability, and without changes to ground based navigational facilities. The Omaha Airspace Redesign encompasses a geographic area of approximately 55 miles around the Omaha Eppley Airfield. The exact study area will be identified in the draft EA.

The FAA will examine methods that will take advantage of new and emerging ATC technologies, and improved performance characteristics of modern aircraft, as well as improvements in navigation capabilities. The proposal will address the merits of alternative airspace design scenarios that safely and efficiently use regional airspace and procedures in and around the Omaha Eppley Airfield and terminal airspace controlled by the Omaha TRACON, as well as facility airspace associated with portions of the Lincoln Airport Traffic Control Tower and Minneapolis ARTCC airspace.

As part of the airspace redesign effort, the FAA will conduct detailed analyses, which will be used to evaluate the potential environmental impacts in the study area. Upon the publication of a draft EA, the FAA will contact and coordinate with federal, state, and local agencies, as well as the public, to obtain comments and suggestions regarding the EA for the proposed project. The EA will assess impacts of reasonable alternatives, including a no action alternative, pursuant to NEPA; FAA Order 1050.1, Policies and Procedures for Assessing Environmental Impacts; DOT Order 5610.1, Procedures for Considering Environmental Impacts; and the President's Council on Environmental Quality (CEQ) Regulations implementing the provisions of NEPA, 40 CFR parts 1500-1508, and other appropriate guidance.

Scoping: While not required for an EA, the FAA will use the scoping process as outlined in the Council on Environmental Quality (CEQ) Regulations and guidelines to facilitate public involvement. Concerned individuals and agencies are invited to express their views in writing. The purpose of the scoping process is: (1) To provide a description of the proposed action, (2) to provide an early and open process to determine the scope of issues to be addressed and to identify potentially significant issues or impacts related to the proposed action that should be analyzed in the EA, (3) to identify other coordination and any permit requirements associated with the proposed action, and (4) to identify and eliminate from detailed study those issues that are not significant or those that have been adequately addressed during a prior environmental review process.

The scoping period begins with this announcement. To ensure that all issues are identified, the FAA is requesting comments and suggestions on the project scope from all interested federal, state and local agencies and other interested parties. In furtherance of this effort, the FAA has established an Intenet Web site that can be accessed at: http://www.faa.gov/ats/central/oar/oar.html. Additional information about the Omaha Airspace Redesign can be found at this internet site. Further, the FAA will be maintaining the following telephone number for general information: (816) 329-2560.

DATES: The FAA will accept formal scoping comments through December 12, 2003. Written comments should be directed to the following address: Federal Aviation Administration, 901 Locust, Attn: ACE-520-OAR, Kansas City, MO 64106. Comments will also be accepted electronically via http://www.faa.gov/ats/nar/central/oar/oar.html.

Issued in Kansas City, Missouri on: October 20, 2003.
Herman J. Lyons, Jr.,
Manager, Air Traffic Division, Central Region.

[FR Doc. 03-27757 Filed 11-4-03; 8:45 am]

BILLING CODE 4910-13-M